DEPARTMENT OF JUSTICE

[AAG/A Order No. 245-2001]

Privacy Act of 1974; System of Records

Pursuant to the provisions of the Privacy Act of 1974 (5 U.S.C. 552a), the Immigration and Naturalization Service (INS), Department of Justice, proposes to modify the following system of records-previously published December 16, 1999 (64 FR 70290):

Worksite Enforcement Records, JUSTICE/INS-025

INS proposes: (1) To revise the title of the system to accurately convey the records within the system; (2) to reflect that the system is now located in all district offices and sub-offices instead of just specific field offices; (3) to add an additional category of individuals covered by the system; (4) to clarify records within the system; (5) revise the “Purpose” to emphasize the inspection function of the system; (6) add two routine use disclosures (J and K); (7) modify the “Retention and Disposal” section to include a disposition for verification records; and (8) to make minor changes and edits.

In accordance with 5 U.S.C. 552a(e)(4) and (11), the public is given a 30-day period in which to comment on the modifications to the system and the new routine use disclosures. The Office of Management and Budget (OMB), which has oversight responsibilities review of the system. Therefore, please submit any comments by (30 days from the publication date of this notice). The public, OMB, and the Congress are invited to send written comments to Mary Cahill, Management Analyst, Management and Planning Staff, Justice Management Division, Department of Justice, Washington, DC 20530 (Room 1400, National Place Building).

In accordance with 5 U.S.C. 552a(r), the Department has provided a report to OMB and the Congress on the proposed modification.

Dated: September 18, 2001.
Janis A. Sposato,
Acting Assistant Attorney General for Administration.

Justice/INS-025

System Name:

Worksite Enforcement Records.

System Location:

Immigration and Naturalization Service (INS) Headquarters, Regional, district, and sub-offices as detailed in Justice/INS-999, last published April 13, 1999 (64 FR18052). Currently, only the district and sub-offices maintain the hard copy case files for this system. Automated indices are maintained at INS Headquarters, regional and district offices, and sub-offices.

Categories of Individuals Covered by the System:

The records maintained in this system of records concern the following:

(a) Individuals who are or have been the subject of inquiries or investigations conducted by the INS related to the enforcement of the employment control provisions of the Immigration and Nationality Act (INA) and related criminal statutes. The records primarily involve those individuals who are being investigated or have been investigated to determine whether their employment-related activities (e.g., hiring, recruiting, and/or referring for a fee) are in violation of the employment control provisions of the INA and/or related criminal statutes. These records also include individuals who employ others in their individual capacity whether related to a business activity or not; (b) individuals who are witnesses, complainants, and parties who have been identified by the INS or by other government agencies or parties to an investigation related to worksite enforcement activities; and (c) individuals who have submitted completed Form I-9 (Employment Eligibility Verification Form) and other documentation to establish identity and work eligibility/authorization under the employment control provisions of the INA. In addition, the system will include information necessary to verify the information attested to on I-9 forms.

Categories of Records in the System:

Information relating to investigative actions including: letters; memoranda; reports of investigations with related exhibits, statements, affidavits, or records obtained during investigations (i.e., including employment verification records); prior criminal or non-criminal records of individuals as they relate to the investigations; reports to or from other law enforcement bodies; information obtained from informants; information on the nature of allegations made against suspects and identifying data concerning such suspects; and related documents.

Authority for Maintenance of the System:

* * * * *

Purpose(s):

The purpose of the system(s) is to enable the INS to meet its obligations and responsibilities in administering and enforcing the employment control provisions of the INA and related criminal statutes. Records in this system are used in the course of INS investigations of entities or individuals (e.g., employers, employees, independent contractors, sub-contractors) suspected of having committee illegal acts and in the course of conducting related civil proceedings, criminal prosecutions, or administrative actions. The records are also used to facilitate INS' inspection authority to monitor and evaluate the information contained on all I-9 forms under inspection, regardless of whether suspicion of wrongdoing exists on the part of the person who executed the Form I-9. Finally, records are also maintained for statistical purposes.

Routine Uses of Records Maintained in the System, Including Categories of Users and the Purpose of Such Use:

* * * * *

C. To the General Services Administration (GSA) and National Archives and Records Administration (NARA) in records management inspections conducted under the authority of 44 U.S.C. 2904 and 2906.

* * * * *

J. To contractors, grantees, experts, consultants, students, and others performing or working on a contract, service, grant, cooperative agreement, or other assignment for the Federal Government, when necessary to accomplish an agency function related to this system of records.

K. Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

* * * * *

Retention and Disposal:

Records concerning fines and/or prosecutions are retained for up to 25 years after the case is closed and then destroyed. Administrative cases involving compliance and warning notices are retained for up to seven years and then destroyed. Lastly, records involving a verification of information only are retained for up to three years and then are destroyed. This additional retention disposition is pending approval by NARA.

* * * * *

[FR Doc. 01-23726 Filed 9-21-01; 8:45 am]

BILLING CODE 4410-10-M